ENVIRONMENTAL PROTECTION AGENCY

[ER-FRL-6666-2]

Environmental Impact Statements and Regulations; Availability of EPA Comments

Availability of EPA comments prepared pursuant to the Environmental Review Process (ERP), under section 309 of the Clean Air Act and Section 102(2)(c) of the National Environmental Policy Act, as amended. Requests for copies of EPA comments can be directed to the Office of Federal Activities at 202-564-7167.

An explanation of the ratings assigned to draft environmental impact statements (EISs) was published in the Federal Register dated April 1, 2005 (70 FR 16815).

Draft EISs

EIS No. 20050072, ERP No. D-FHW-K40256-CA, 1st Street Viaduct and Street Widening Project, To Replace Two Traffic Lanes on the 1st Street Viaduct between Vignes Street and Mission Road, Funding, in the City and County of Los Angeles, CA.

Summary: EPA has environmental concerns about the proposed project is air quality impacts.

EPA is also concerned about the potential for similar transportation projects in the project vicinity, and requests a broader environmental justice analysis.

Rating EC2.

EIS No. 20050126, ERP No. D-COE-K36142-CA, Programmatic—San Luis Obispo Creek Watershed, Waterway Management Plan, Stream Maintenance and Management Plan, City of San Luis Obispo and County of San Luis Obispo, Community of Avila Beach, San Luis Obispo County, CA.

Summary: EPA expressed environmental concerns about the project's potential impacts to water quality, endangered species and habitat, and possible presence of asbestos.

Rating EC2.

EIS No. 20050173, ERP No. D-NRC-E06024-MS, Grand Gulf Early Site Permit (ESP) Site, Construction and Operation, Issuance of an Early Site Permit (ESP), NUREG-1817, Claiborne County, MS.

Summary: EPA expressed concerns about wetlands and aquifer impacts, environmental justice, and public health and requested clarification of the regulatory limits for offsite releases of radio nuclides for the current candidate repository site.

Rating EC2.

EIS No. 20050195, ERP No. D-BLM-K39093-NV, North Valleys Right-of-Way Projects, Proposed Construction and Operation of Water Transmission Pipelines, Washoe County, NV.

Summary: EPA expressed concerns about cumulative and indirect impacts of the project on water, air, and biological resources. EPA recommended the FEIS address the potential impacts of exporting as much as 13,000 acre-feet/year from Fish Springs Ranch, the indirect impacts of growth in the water service area, and mitigation measures to minimize impacts.

Rating EC2.

EIS No. 20050200, ERP No. D-AFS-K65284-CA, Creeks Forest Health Recovery Project, To Develop a Network of Defensible Fuel Profile Zones (DFPZs), Group-Selection Timber Harvest, Individual Tree Selection, Lassen National Forest, Almanor Ranger District, Plumas County, CA.

Summary: EPA expressed environmental concerns about water and air quality impacts, environmental justice impacts, and consultation with tribal governments.

Rating EC2.

EIS No. 20050231, ERP No. D-AFS-J65444-MT, Gallatin National Forest, Proposed Travel Management Plan, Implementation, Forest Land and Resource Management, Madison, Gallatin, Park, Meagher, Sweetgrass and Carbon Counties, MT.

Summary: EPA expressed environmental concerns about potential impacts to water quality, aquatic habitat and fisheries, and wildlife from road erosion and motorized use, and suggested that the preferred alternative consider further reducing sedimentation from roads, close or restore poorly maintained roads and restrict new road construction.

Rating EC2.

Final EISs

EIS No. 20050132, ERP No. F-BLM-K70009-CA, West Mojave Plan, Habitat Conservation Plan and Federal Land Use Plan Amendment, Implementation, California Desert Conservation Area, Portion of San Bernardino, Kern, Inyo, and Los Angeles Counties, CA.

Summary: While EPA has no objections to the proposed action, it suggests the establishment of vehicle use quarantine areas to alleviate stresses in high tortoise density areas during prolonged drought, and the use of Level 1 best management practices in tortoise survey areas outside of Desert Wildlife Management Areas.

EIS No. 20050156, ERP No. F-IBR-K39089-CA, Folsom Dam Road Access Restriction Project, Control Access to Folsom Dam, City of Folsom, CA.

Summary: EPA expressed continued concerns that changes in traffic patterns caused by the access restriction may indirectly result in localized air quality and environmental justice impacts.

EIS No. 20050215, ERP No. F-AFS-K65265-AZ, Bar T Bar Anderson Springs Allotment Management Plans to Authorize Permitted Livestock Grazing for a 10-Year Period, Coconino National Forest, Mogollon Rim and Mormon Lake Ranger District, Coconino County, AZ.

Summary: No formal comment letter was sent to the preparing agency.

EIS No. 20050241, ERP No. F-BLM-A65174-00, Programmatic—Proposed Revision to Grazing Regulations for the Public Lands, 42 CFR part 4100, in the Western Portion of the United States.

Summary: EPA continues to express environmental concerns about the potential for adverse impacts to water quality, and recommended that monitoring data be collected at both watershed and smaller unit levels and that BLM further define range readiness.

EIS No. 20050242, ERP No. F-FRC-G03025-TX, Ingleside Energy Center Liquefied Natural Gas (LNG) Import Terminal and San Patricio Pipeline Natural Gas Pipeline, Authorization to Construct, Install and Operate, San Patricio and Nueces Counties, TX.

Summary: EPA's previous issues have been resolved; therefore, EPA has no objection to the proposed action.

EIS No. 20050246, ERP No. F-COE-H11005-NE, Cornhusker Army Ammunition Plant (CHAAP) Land Disposal Industrial Tracts, Proposed Disposal and Reuse of Tracts 32, 33, 34, 35, 36, 47, 61, 62, Hall County, NE.

Summary: EPA has no objection to the action as proposed.

EIS No. 20050265, ERP No. F-NPS-K65276-AZ, Chiricahua National Monument Fire Management Plan (FMP), Implementation, AZ.

Summary: EPA has no objections to the proposed project.

EIS No. 20050254, ERP No. FS-NOA-C91004-00, Amendment to the Fishery Management Plans (FMPs), Amendment 2 for the Spiny Lobster Fishery; Amendment 1 for the Queen Conch Resources; Amendment 3 for the Reef Fish Fishery; Amendment 2 Corals and Reef Associated Invertebrates, U.S. Caribbean to Address Required Provisions MSFCMA, Puerto Rico and the U.S. Virgin Island.

Summary: EPA has no objections to the proposed project.

Dated: August 2, 2005.
Robert W. Hargrove,
Director, NEPA Compliance Division, Office of Federal Activities.

[FR Doc. 05-15521 Filed 8-4-05; 8:45 am]

BILLING CODE 6560-50-P